DEPARTMENT OF DEFENSE

Office of the Secretary

[Docket ID: DoD-2012-OS-0012]

Proposed Collection; Comment Request

AGENCY: Office of the Under Secretary of Defense for Personnel and Readiness (USD(P&R)), DoD.

ACTION: Notice.

SUMMARY: In compliance with Section 3506(c)(2)(A) of the Paperwork Reduction Act of 1995, the Office of the USD(P&R) announces an extension of a public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by April 9, 2012.

ADDRESSES: You may submit comments, identified by docket number and title, by any of the following methods:

• Federal eRulemaking Portal: http://www.regulations.gov. Follow the instructions for submitting comments.

• Mail: Federal Docket Management System Office, 4800 Mark Center Drive, 2nd Floor, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to DoD Sexual Assault Prevention and Response Office (SAPRO), 1401 Wilson Boulevard, Suite 402, Arlington, VA 22209, ATTN: Ms. Darlene Sullivan, (703) 696-8695.

Title; Associated Form; and OMB Number: Defense Sexual Assault Incident Database (DSAID); OMB Control Number 0704-0482.

Needs and Uses: Section 563 of Public Law (Pub. L.) 110-417, the National Defense Authorization Act (NDAA) for Fiscal Year (FY) 2009 mandated the implementation of a centralized, case-level database for the collection, in a manner consistent with DoD regulations for Unrestricted and Restricted Reporting, and maintenance of information regarding sexual assaults involving a member of the Armed Forces, including information, if available, about the nature of the assault, the victim, the offender, and case outcomes in connection with the assault.

DSAID will include the capability for entering records and interfacing data; generating predefined and ad hoc reports; and conducting case and business management. Specifically, the system will be a warehouse of sexual assault case information; have the ability to run queries and reports; provide the Sexual Assault Response Coordinator (SARC) with the capability to interface and manage case-level data; include victim, subject, and case outcomes in connection with the assault; allow for Sexual Assault Prevention and Response (SAPR) Program Administration and Management; and include additional business management functionalities.

Affected Public: Federal Government; Individuals or Households; Business or Other For-Profit; Not-For-Profit Institutions; Farms; State, Local or Tribal Government.

Annual Burden Hours: 3200 hours.

Number of Respondents: 3200.

Responses per Respondent: 1.

Average Burden per Response: 1 hour.

Frequency: On occasion.

SUPPLEMENTARY INFORMATION:

Summary of Information Collection

The system will collect data regarding incidence of sexual assaults involving persons required by Section 577(f) of Public Law 108-375, NDAA for FY05; Section 596(c) of Public Law 109-163, the NDAA for FY06; Section 583 of Public Law 109-364, the NDAA for FY07; Sections 561 and 562 of Public Law 111-84, the NDAA for FY10; and Section 1631 of Public Law 111-383, NDAA for FY11. Those individuals are as follows: Active duty Service members; National Guard members on Title 10, United States Code (U.S.C.); National Guard members on Title 32, U.S.C.; Service members who are on active duty but were victims of sexual assault prior to enlistment or commissioning; Active duty Reserve members; military dependents age 18 and older; DoD Civilians and their family dependents 18 years of age and older; DoD Contractors; other government civilians; U.S. Civilians; and foreign military members.

At the Military Service level, SARCs and SAPR Victim Advocates (VA) work with victims to ensure that they are aware of services available and have contact with medical treatment personnel and DoD law enforcement entities. At the DoD level, only de-identified information is used to respond to mandated reporting requirements.

Dated: January 19, 2012.
Patricia L. Toppings,
OSD Federal Register Liaison Officer, Department of Defense.

[FR Doc. 2012-2725 Filed 2-6-12; 8:45 am]

BILLING CODE 5001-06-P